DEPARTMENT OF TRANSPORTATION

Pipeline and Hazardous Materials Safety Administration

Hazardous Materials: Delayed Applications

AGENCY: Office of Hazardous Materials Safety, Pipeline and Hazardous Materials Safety Administration (PHMSA), DOT.

ACTION: List of application delayed more than 180 days.

SUMMARY: In accordance with the requirements of 49 U.S.C. 5117(c), PHMSA is publishing the following list of special permit applications that have been in process for 180 days or more. The reason(s) for delay and the expected completion date for action on each application is provided in association with each identified application.

FOR FURTHER INFORMATION CONTACT: Ryan Paquet, Director, Office of Hazardous Materials Special Permits and Approvals, Pipeline and Hazardous Materials Safety Administration, U.S. Department of Transportation, East Building, PHH-30, 1200 New Jersey Avenue Southeast, Washington, DC 20590-0001, (202) 366-4535.

Key to “Reason for Delay”

1. Awaiting additional information from applicant

2. Extensive public comment under review

3. Application is technically complex and is of significant impact or precedent-setting and requires extensive analysis

4. Staff review delayed by other priority issues or volume of special permit applications

Meaning of Application Number Suffixes

N—New application

M—Modification request

R—Renewal Request

P—Party To Exemption Request

Issued in Washington, DC, on March 10, 2016.
Donald Burger,
Chief, General Approvals and Permits.

Modification to Special Permits
Application No. | Applicant | Reason for delay | Estimated date of completion
16412-M | Nantong CMC Tank Equipment Co. Ltd. Jiangsu, Province | 4 | 03-31-2016
15628-M | Chemours Company FC, LLC Wilmington, DE | 4 | 03-31-2016
15610-M | TechKnowServ Corp. State College, PA | 4 | 03-31-2016
15537-M | Alaska Pacific Powder Company Watkins, CO | 4 | 04-15-2016
7607-M | Thermo Fisher Scientific Franklin, MA | 4 | 03-31-2016
16035-M | LCF Systems, Inc. Scottsdale, AZ | 4 | 04-30-2016
14437-M | Columbiana Boiler Company (CBCo), LLCColumbiana, OH | 4 | 02-15-2016

New Special Permit Applications
Application No. | Applicant | Reason for delay | Estimated date of completion
15767-N | Union Pacific Railroad Company Omaha, NE | 3 | 02-29-2016
16001-N | VELTEK ASSOCIATES, INC. Malvern, PA | 3 | 03-31-2016
16477-N | Hydroid, Inc. Pocasset, MA | 4 | 03-15-2016
16495-N | TransRail Innovation, Inc. Calgary | 4 | 03-31-2016
16524-N | Quantum Fuel Systems Technologies Worldwide, Inc. Lake Forest, CA | 4 | 03-15-2016
16463-N | Salco Products Lemont, IL | 3 | 03-31-2016
16571-N | Chevron USA Inc. San Ramon, CA | 4 | 04-15-2016
16559-N | HTEC Hydrogen Technology & Energy Corporation North Vancouver, BC; Canada | 4 | 04-30-2016
16560-N | LightSail Energy, Inc. Berkeley, CA | 4 | 04-30-2016

Party to Special Permits Application
Application No. | Applicant | Reason for delay | Estimated date of completion
16279-P | AEG Environmental Products & Services, Inc.; Westminster, MD | 4 | 03-31-2016

[FR Doc. 2016-06054 Filed 3-16-16; 8:45 am]

BILLING CODE 4910-60-M